OFFICE OF THE UNITED STATES TRADE REPRESENTATIVE

Exclusion of Particular Products From Actions Under Section 203 of the Trade Act of 1974 With Regard to Certain Steel Products; Conforming Changes and Technical Corrections to the Harmonized Tariff Schedule of the United States

AGENCY: Office of the United States Trade Representative.

ACTION: Notice.

SUMMARY: Pursuant to authority granted to the United States Trade Representative (“USTR”) in Presidential Proclamation 7529 of March 5, 2002 (67 FR 10553), USTR has found that particular products should be excluded from actions under section 203 of the Trade Act of 1974, as amended, (19 U.S.C. 2253) (“Trade Act”) with regard to certain steel products, and is modifying subchapter III of chapter 99 of the Harmonized Tariff Schedule of the United States (HTS) as set forth in the annex to this notice to implement these exclusions. In addition, pursuant to authority delegated to USTR in Presidential Proclamation 6969 of January 27, 1997 (62 FR 4415), USTR is making technical corrections to subchapter III of chapter 99 of the Harmonized Tariff Schedule of the United States (HTS) as set forth in the annex to this notice. These modifications correct several inadvertent errors and omissions in the subheadings 9903.72.30 through 9903.74.24 of the HTS so that the intended tariff treatment is provided.

EFFECTIVE DATE: The modifications and corrections made in this notice are effective with respect to articles entered, or withdrawn from warehouse for consumption, on or after the dates set forth in each item in the annex to this notice.

FOR FURTHER INFORMATION CONTACT: Office of Industry, Office of the United States Trade Representative, 600 17th Street, NW., Room 501, Washington, DC 20508. Telephone (202) 395-5656.

SUPPLEMENTARY INFORMATION: On March 5, 2002, pursuant to section 203 of the Trade Act, the President issued Proclamation 7529, which imposed tariffs and a tariff-rate quota on (a) certain flat steel, consisting of: slabs, plate, hot-rolled steel, cold-rolled steel, and coated steel; (b) hot-rolled bar; (c) cold-finished bar; (d) rebar; (e) certain tubular products; (f) carbon and alloy fittings; (g) stainless steel bar; (h) stainless steel rod; (i) tin mill products; and (j) stainless steel wire, as provided for in subheadings 9903.72.30 through 9903.74.24 of the Harmonized Tariff Schedule of the United States (“HTS”) (“safeguard measures”) for a period of three years plus 1 day. Effective with respect to goods entered, or withdrawn from warehouse for consumption, on or after 12:01 a.m., EST, on March 20, 2002, Proclamation 7529 modified subchapter III of chapter 99 of the HTS so as to provide for such increased duties and a tariff-rate quota. Proclamation 7529 also delegated to the USTR the authority to consider requests for exclusion of a particular product submitted in accordance with the procedures set out in 66 FR 54321, 54322-54323 (October 26, 2001) and, upon publication in the Federal Register of a notice of his finding that a particular product should be excluded, to modify the HTS provisions created by the annex to that proclamation to exclude such particular product from the pertinent safeguard measure. On April 5, 2002, USTR published a notice in the Federal Register excluding particular products from the safeguard measures, and modified the HTS accordingly. 67 FR 16484. On July 3, the President issued Proclamation 7576, which extended the period for granting exclusions until August 31, 2002. On July 12, 2002, and August 30, 2002, USTR published notices in the Federal Register excluding additional products from the safeguard measures, and modified the HTS accordingly. 67 FR 46221 and 67 FR 56182.

USTR has further considered exclusion requests for certain products designated as A600, A604, A605, A607, A609, A611, A613, A614, A615, A617, A619, A621, A623, A625, A626, A627, A629, A630, A631, A632, A634, A635, A641, A642, A643, A645, A646, A648, A649, A650, A655, A656, A661, A663, A667, A668, A669, A672, A673, A674, A675, A676, A677, A679, A680, A682, A684, A686, A688, A689, A692, A693, A694, A695, A697, A698, A699, A701, A705, A708, A709, A710, A711, A712, A714, A715, A717, A719, A721, A723, A725, A726, A728, A729, A732, A739, A742, A743, A744, A750, A751, A752, A754, A756, A765, A767, A769, A774, A779, A782, A786, A789, A791, A793, A805, A806, A807, A809, and A810. USTR finds that the exclusion from the safeguard measures established in Proclamation 7529 of certain steel products within these designations, as described in the annex to this notice, would not undermine the goals of those safeguard measures. Therefore, I find that these products should be excluded from those safeguard measures. Accordingly, under authority vested in the USTR by Proclamations 7529, I modify the HTS provisions created by the annex to Proclamation 7529 as set forth in the annex to this notice. Such modifications shall be embodied in the HTS with respect to goods entered, or withdrawn from warehouse for consumption, on the dates indicated in the annex to this notice.

On March 19, 2002, June 4, 2002, July 12, 2002, August 30, 2002, November 14, 2002, and February 11, 2003, USTR published Federal Register notices (67 FR 12635, 67 FR 38541, 67 FR 46221, 67 FR 56182, 67 FR 69065 and 68 FR 6982, respectively) making technical corrections to subchapter III of chapter 99 of the HTS to remedy several technical errors introduced in the annex to Proclamation 7529. These corrections ensured that the intended tariff treatment was provided. Since the publication of these Federal Register notices, additional technical errors and omissions in subchapter III of chapter 99 have come to the attention of USTR. The annex to this notice makes technical corrections to the HTS to remedy these errors and omissions. In particular, the annex to this notice corrects errors in the descriptions of the physical dimensions or chemical composition of certain products excluded from the application of the safeguard measures and increases the quantitative levels for certain products subject to quantitative limits.

Proclamation 6969 authorized the USTR to exercise the authority provided to the President under section 604 of the Trade Act of 1974 (19 U.S.C. 2483) to embody rectifications, technical or conforming changes, or similar modifications in the HTS. Under authority vested in the USTR by Proclamation 6969, the rectifications, technical and conforming changes, and similar modifications set forth in the annex to this notice shall be embodied in the HTS with respect to goods entered, or withdrawn from warehouse for consumption, on or after the dates set forth in the annex to this notice.

Robert B. Zoellick,
United States Trade Representative.

BILLING CODE 3190-01-P

[FR Doc. 03-7782 Filed 3-27-03; 1:13 pm]

BILLING CODE 3190-01-C